NUCLEAR REGULATORY COMMISSION

[NRC-2012-0108]

Spent Fuel Transportation Risk Assessment

AGENCY: Nuclear Regulatory Commission.

ACTION: Draft NUREG; request for comment.

SUMMARY: The U.S. Nuclear Regulatory Commission (NRC or the Commission) is issuing for public comment a draft NUREG, NUREG-2125, “Spent Fuel Transportation Risk Assessment (SFTRA).”

DATES: Submit comments by July 13, 2012. Comments received after this date will be considered if it is practical to do so, but the NRC staff is able to ensure consideration only for comments received on or before this date.

ADDRESSES: You may access information and comment submissions related to this document by searching on http://www.regulations.gov under Docket ID NRC-2012-0108.

You may submit comments by the following methods:

• Federal Rulemaking Web site: Go to http://www.regulations.gov and search for Docket ID NRC-2012-0108. Address questions about NRC dockets to Carol Gallagher; telephone: 301-492-3668; email: Carol.Gallagher@nrc.gov.

• Mail comments to: Cindy Bladey, Chief, Rules, Announcements, and Directives Branch (RADB), Office of Administration, Mail Stop: TWB-05-B01M, U.S. Nuclear Regulatory Commission, Washington, DC 20555-0001.

• Fax comments to: RADB at 301-492-3446.

For additional direction on accessing information and submitting comments, see “Accessing Information and Submitting Comments” in the SUPPLEMENTARY INFORMATION section of this document.

FOR FURTHER INFORMATION CONTACT: John R. Cook, Office of Nuclear Material Safety and Safeguards, U.S. Nuclear Regulatory Commission, Washington, DC 20555-0001; telephone: 301-415-3318; email: John.Cook@nrc.gov.

SUPPLEMENTARY INFORMATION:

I. Accessing Information and Submitting Comments

A. Accessing Information

Please refer to Docket ID NRC-2012-0108 when contacting the NRC about the availability of information regarding this document. You may access information related to this document by the following methods:

• Federal Rulemaking Web Site: Go to http://www.regulations.gov and search for Docket ID NRC-2012-0108.

• NRC's Agencywide Documents Access and Management System (ADAMS): You may access publicly-available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The draft NUREG is available electronically under ADAMS Accession No. ML12125A218. The draft NUREG will also be accessible through the NRC's public site under draft NUREGs for comment.

• NRC's PDR: You may examine and purchase copies of public documents at the NRC's PDR, Room O1-F21, One White Flint North, 11555 Rockville Pike, Rockville, Maryland 20852.

B. Submitting Comments

Please include Docket ID NRC-2012-0108 in the subject line of your comment submission, in order to ensure that the NRC is able to make your comment submission available to the public in this docket.

The NRC cautions you not to include identifying or contact information in comment submissions that you do not want to be publicly disclosed. The NRC posts all comment submissions at http://www.regulations.gov as well as entering the comment submissions into ADAMS, and the NRC does not edit comment submissions to remove identifying or contact information.

If you are requesting or aggregating comments from other persons for submission to the NRC, then you should inform those persons not to include identifying or contact information in their comment submissions that they do not want to be publicly disclosed. Your request should state that the NRC will not edit comment submissions to remove such information before making the comment submissions available to the public or entering the comment submissions into ADAMS.

Discussion

The NRC is responsible for issuing regulations (Title 10 of the Code of Federal Regulations (10 CFR) part 71, “Packaging and Transportation of Radioactive Waste,” dated January 26, 2004) for the packaging and transport of spent nuclear fuel (and other large quantities of radioactive material) that provide for public health and safety during transport. In September 1977, the NRC published NUREG-0170, “Final Environmental Statement on the Transportation of Radioactive Material by Air and Other Modes,” which assessed the adequacy of those regulations to provide safety assurance. In that assessment, the measure of safety was the risk of radiation doses to the public under routine and accident transport conditions, and the risk was found to be acceptable. Since that time there have been two affirmations of this conclusion for spent nuclear fuel (SNF) transportation, each using improved tools and information. This report presents the results of a fourth investigation into the safety of SNF transportation. The risks associated with SNF transportation come from the radiation that the spent fuel emits, which is reduced—but not eliminated—by the transportation cask's shielding, and from the possibility of the release of some quantity of radioactive material during a severe accident. This investigation shows that the risk from the radiation emitted from the cask is a small fraction of naturally occurring background radiation, and that the risk from accidental release of radioactive material is several orders of magnitude less. Because there have been only minor changes to the radioactive material transportation regulations between NUREG-0170 and this risk assessment, the calculated dose due to the radiation from the cask under routine transport conditions is similar to what was found in earlier studies. The improved analysis tools and techniques, improved data availability, and a reduction in the number of conservative assumptions has made the estimate of accident risk from the release of radioactive material in this study approximately five orders of magnitude less than what was estimated in NUREG-0170. The results demonstrate that the NRC regulations continue to provide adequate protection of public health and safety during the transportation of SNF. The staff is seeking any information that is germane to these results that the public may wish to offer.

Dated at Rockville, Maryland, this 4th day of May, 2012.
For the Nuclear Regulatory Commission.
Christian Araguas,
Acting Chief, Rules, Inspections, and Operations Branch, Division of Spent Fuel Storage and Transportation, Office of Nuclear Material Safety and Safeguards.

[FR Doc. 2012-11672 Filed 5-11-12; 8:45 am]

BILLING CODE 7590-01-P